ENVIRONMENTAL PROTECTION AGENCY

40 CFR Part 60

[DOCKET NUMBER [EPA-HQ-OAR-2013-0495; FRL 9905-61-OAR]

Standards of Performance for Greenhouse Gas Emissions for New Stationary Sources: Electric Utility Generating Units

Correction

In proposed rule document 2014-01065 appearing on pages 3357-3358 in the issue of Wednesday, January 22, 2014, make the following corrections:

1. On page 3357, in the third column, in the document heading, “40 CFR Part 63” is corrected to read “40 CFR Part 60”.

2. On page 3358, in the second column, in the seventh line from the bottom, “List of Subjects in 40 CFR Part 63” should read “List of Subjects in 40 CFR Part 60”.

[FR Doc. C1-2014-01065 Filed 1-27-14; 8:45 am]

BILLING CODE 1505-01-D